APPALACHIAN STATES LOW-LEVEL RADIOACTIVE WASTE COMMISSION

Annual Meeting

Time and Date: 10 a.m.-12:30 p.m. November 6, 2009.

Place: Harrisburg Hilton and Towers, One North Second Street, Harrisburg, PA 17101.

Status: The meeting will be open to the public.

Matters to be Considered:

Portions Open to the Public: The primary purpose of this meeting is to (1) review the independent auditors' report of Commission's financial statements for fiscal year 2008-2009; (2) Review the Low-Level Radioactive Waste (LLRW) Disposal and Storage information for 2008; (3) Consider a proposed budget for fiscal year 2010-2011; (4) Review regional and national issues regarding LLRW storage, management and disposal; and (5) Elect the Commission's Officers.

Portions Closed to the Public: Executive Session, if deemed necessary, will be announced at the meeting.

Contact Person for More Information: Rich Janati, Administrator of the Commission, at 717-787-2163.

Rich Janati,
Administrator, Appalachian Compact Commission.

[FR Doc. E9-25502 Filed 10-22-09; 8:45 am]

BILLING CODE P